DEPARTMENT OF DEFENSE

Department of the Navy

Notice of Public Meetings of the Draft Environmental Impact Statement/Overseas Environmental Impact Statement for Military Readiness Activities in the Northwest Training and Testing Study Area

AGENCY: Department of the Navy, DoD.

ACTION: Notice.

SUMMARY: Pursuant to section 102(2)(c) of the National Environmental Policy Act of 1969, regulations implemented by the Council on Environmental Quality (40 Code of Federal Regulations Parts 1500-1508), and Presidential Executive Order 12114, the Department of the Navy (DoN) has prepared and filed with the U.S. Environmental Protection Agency a Draft Environmental Impact Statement/Overseas Environmental Impact Statement (EIS/OEIS). The Draft EIS/OEIS includes the evaluation of the potential environmental effects associated with military readiness training and research, development, test, and evaluation activities (training and testing) conducted within the Northwest Training and Testing (NWTT) Study Area. The National Marine Fisheries Service (NMFS) and the U.S. Coast Guard are cooperating agencies for this EIS/OEIS.

The NWTT Study Area is composed of established maritime operating areas and warning areas in the eastern North Pacific Ocean, including the Strait of Juan de Fuca, Puget Sound, and Western Behm Canal in southeastern Alaska. The NWTT Study Area includes: air and water space within and outside Washington state waters, and outside state waters of Oregon and Northern California; four existing range complexes and facilities (Northwest Training Range Complex [NWTRC], Naval Undersea Warfare Center [NUWC] Division Keyport Range Complex, Carr Inlet Operations Area, and Southeast Alaska Acoustic Measurement Facility [SEAFAC]); and Navy pierside locations where sonar maintenance and testing occur (Naval Base Kitsap Bremerton, Naval Base Kitsap Bangor and Naval Station Everett). The land-based portions of the range complexes and facilities are not a part of the Study Area and will be or already have been addressed under separate DoN environmental planning documentation.

With the filing of the Draft EIS/OEIS, the DoN is initiating a 60-day public comment period and has scheduled eight public meetings to receive comments on the Draft EIS/OEIS. This notice announces the dates and locations of the public meetings and provides supplementary information about the environmental planning effort.

Dates and Addresses: The 60-day Draft EIS/OEIS public review period will begin on January 24, 2014, and end on March 25, 2014. The DoN will hold eight public meetings that will include an open house information session, followed by a short presentation by the DoN. DoN representatives will be available during the open house information sessions to clarify information related to the Draft EIS/OEIS. Federal, state, and local agencies and officials, and interested organizations and individuals are encouraged to provide comments in writing during the public review period or in person at one of the scheduled public meetings.

The public meetings will be held from 5:00 p.m. to 8:00 p.m., with a DoN presentation at 6:30 p.m., on the following dates and at the following locations:

1. Wednesday, February 26, 2014, at the Oak Harbor High School Student Union Building, 1 Wildcat Way, Oak Harbor, WA, 98277.

2. Thursday, February 27, 2014, at the Cascade High School Student Commons, 801 E. Casino Road, Everett, WA, 98203.

3. Friday, February 28, 2014, at the North Kitsap High School Commons, 1780 NE Hostmark St., Poulsbo, WA, 98370.

4. Monday, March 3, 2014, at the Astoria High School Student Commons, 1001 W. Marine Drive, Astoria, OR, 97103.

5. Tuesday, March 4, 2014, at the Isaac Newton Magnet School Gym, 825 NE 7th St., Newport, OR, 97365.

6. Thursday, March 6, 2014, at the Red Lion Hotel Redwood Ballroom, 1929 4th St., Eureka, CA, 95501.

7. Friday, March 7, 2014, at the Redwood Coast Senior Center West Room, 490 N. Harold St., Fort Bragg, CA, 95437.

8. Tuesday, March 11, 2014, at the Southeast Alaska Discovery Center Lobby, 50 Main St., Ketchikan, AK, 99901.

Attendees will be able to submit oral and written comments during the public meetings. Oral comments from the public will be recorded by a court reporter. In the interest of available time, and to ensure all who wish to provide an oral statement to the court reporter have the opportunity to do so, each speaker's comments will be limited to three (3) minutes, which may be extended if meeting attendance permits. Equal weight will be given to oral and written statements. Comments may also be submitted via the U.S. Postal Service to Naval Facilities Engineering Command Northwest, Attention: Ms. Kimberly Kler—NWTT EIS/OEIS Project Manager, 1101 Tautog Circle, Suite 203, Silverdale, WA 98315-1101, or electronically via the project Web site (www.NWTTEIS.com). All comments, oral or written, submitted during the public review period will become part of the public record. All comments will be reviewed and acknowledged or responded to in the Final EIS/OEIS. Comments must be postmarked or received online by March 25, 2014, for consideration in the Final EIS/OEIS.

FOR FURTHER INFORMATION CONTACT: Naval Facilities Engineering Command Northwest, Attention: Ms. Kimberly Kler—NWTT EIS/OEIS Project Manager, 1101 Tautog Circle, Suite 203, Silverdale, WA 98315-1101.

SUPPLEMENTARY INFORMATION: A Notice of Intent to prepare this Draft EIS/OEIS was published in the Federal Register on February 27, 2012 (77 FR 11497).

The DoN's Proposed Action is to conduct military readiness training and testing activities, to include the use of active Sound Navigation and Ranging (sonar) and explosives, primarily within existing range complexes, operating areas, and testing ranges of the NWTT Study Area. The Proposed Action also includes pierside sonar maintenance and testing within the Study Area.

The purpose of the Proposed Action is to achieve and maintain military readiness to meet the requirements of Title 10 of the U.S. Code, thereby ensuring that the DoN accomplishes its mission to maintain, train, and equip combat-ready naval forces capable of winning wars, deterring aggression, and maintaining freedom of the seas. This Draft EIS/OEIS will also support the renewal of federal regulatory permits and authorizations for current training and testing activities and to propose future activities requiring environmental analysis.

The Draft EIS/OEIS includes analysis of the potential environmental impacts of three alternatives, including the No Action Alternative. The No Action Alternative would continue baseline training and testing activities, as defined by existing environmental planning documents, including the NWTRC EIS/OEIS, the NUWC Division Keyport Range Complex Extension EIS/OEIS, and the SEAFAC EIS. Alternative 1 (Preferred Alternative) consists of the No Action Alternative, plus adjustments to the types and levels of training and testing activities conducted within the Study Area as necessary to support current and planned requirements. This alternative includes activities associated with force structure changes, such as those resulting from the development, testing, and ultimate introduction of new vessels, aircraft, and weapons systems into the fleet; training exercises in support of Civilian Port Defense; and testing activities. Alternative 2 consists of all activities that would occur under Alternative 1, plus additional adjustments to the levels of training and testing activities.

In this EIS/OEIS, the DoN analyzes potential impacts on environmental resources resulting from activities under the alternatives. Resources evaluated include sediments and water quality, air quality, marine habitats, marine mammals, sea turtles, birds, marine vegetation, marine invertebrates, fish, cultural resources, Native American and Alaska Native Traditional Resources, socioeconomic resources, and public health and safety.

The DoN is requesting Marine Mammal Protection Act incidental take authorizations from NMFS, as well as governing regulations for the incidental take of marine mammals that may result from the implementation of the activities analyzed in the Draft EIS/OEIS. In accordance with Section 7 of the Endangered Species Act, the DoN is consulting with NMFS and the U.S. Fish and Wildlife Service on the potential impacts of training and testing activities on federally listed species. In accordance with the Magnuson-Stevens Fishery Conservation and Management Act, the DoN is consulting with NMFS on federally managed species and their essential fish habitat.

The cumulative impacts of past, present, and other reasonably foreseeable future actions are expected to result in impacts on marine mammals and sea turtles, including Endangered Species Act-listed marine mammal species, in the Study Area. The Draft EIS/OEIS indicates that the incremental contribution of the No Action Alternative, Alternative 1, or Alternative 2 to all other resource areas analyzed would be negligible.

The Draft EIS/OEIS was distributed to federal, state, and local agencies, elected officials, and other interested organizations and individuals.

Copies of the Draft EIS/OEIS are available for public review at the following public libraries:

1. Everett Main Library, 2702 Hoyt Ave., Everett, WA 98201.

2. Gig Harbor Library, 4424 Point Fosdick Drive NW., Gig Harbor, WA 98335.

3. Jefferson County Library—Port Hadlock, 620 Cedar Ave., Port Hadlock, WA 98339.

4. Kitsap Regional Library—Poulsbo, 700 NE Lincoln Road, Poulsbo, WA 98370.

5. Kitsap Regional Library—Sylvan Way (Bremerton), 1301 Sylvan Way, Bremerton, WA 98310.

6. Oak Harbor Public Library, 1000 SE Regatta Drive, Oak Harbor, WA 98277.

7. Port Angeles Main Library, 2210 S. Peabody St., Port Angeles, WA 98362.

8. Port Townsend Public Library, 1925 Blaine St., Port Townsend, WA 98368.

9. Timberland Regional Library—Aberdeen, 121 E. Market St., Aberdeen, WA 98520.

10. Timberland Regional Library—Hoquiam, 420 7th St., Hoquiam, WA 98550.

11. Astoria Public Library, 450 10th St., Astoria, OR 97103.

12. Driftwood Public Library, 801 SW Highway 101, Lincoln City, OR 97367.

13. Newport Public Library, 35 NW Nye St., Newport, OR 97365.

14. Tillamook Main Library, 1716 Third St., Tillamook, OR 97141.

15. Fort Bragg Branch Library, 499 Laurel St., Fort Bragg, CA 95437.

16. Humboldt County Public Library, Arcata Branch Library, 500 7th St., Arcata, CA 95521.

17. Humboldt County Public Library, Eureka Main Library, 1313 3rd St., Eureka, CA 95501.

18. Juneau Public Library, Downtown Branch, 292 Marine Way, Juneau, AK 99801.

19. Ketchikan Public Library, 1110 Copper Ridge Lane, Ketchikan, AK 99901.

The Draft EIS/OEIS is also available for electronic viewing at www.NWTTEIS.com. A compact disc of the Draft EIS/OEIS will be made available upon written request by contacting: Naval Facilities Engineering Command Northwest, Attention: Ms. Kimberly Kler—NWTT EIS/OEIS Project Manager, 1101 Tautog Circle, Suite 203, Silverdale, WA 98315-1101.

Dated: January 23, 2014.
N. A. Hagerty-Ford,
Commander, Office of the Judge Advocate General, U. S. Navy. Federal Register Liaison Officer.

[FR Doc. 2014-01910 Filed 1-30-14; 8:45 am]

BILLING CODE 3810-FF-P